DEPARTMENT OF ENERGY

Federal Energy Regulatory Commission

Combined Notice of Filings #1

Take notice that the Commission received the following electric rate filings:

Docket Numbers: ER21-2810-001.

Applicants: Florida Power & Light Company.

Description: Compliance filing: FPL Compliance Filing to Correct Flawed Tariff Records to be effective 9/1/2021.

Filed Date: 3/28/22.

Accession Number: 20220328-5172.

Comment Date: 5 p.m. ET 4/18/22.

Docket Numbers: ER22-1463-000.

Applicants: Southampton Solar, LLC.

Description: Compliance filing: Compliance Filing and Notice of Change to be effective 3/26/2022.

Filed Date: 3/25/22.

Accession Number: 20220325-5178.

Comment Date: 5 p.m. ET 4/15/22.

Docket Numbers: ER22-1464-000.

Applicants: EnerSmart Murray BESS LLC.

Description: Baseline eTariff Filing: Filing of Market-Based Rate Application to be effective 5/25/2022.

Filed Date: 3/25/22.

Accession Number: 20220325-5181.

Comment Date: 5 p.m. ET 4/15/22.

Docket Numbers: ER22-1465-000.

Applicants: Eastern Shore Solar LLC.

Description: Compliance filing: Compliance Filing and Notice of Change to be effective 3/26/2022.

Filed Date: 3/25/22.

Accession Number: 20220325-5182.

Comment Date: 5 p.m. ET 4/15/22.

Docket Numbers: ER22-1466-000.

Applicants: PJM Interconnection, L.L.C.

Description: § 205(d) Rate Filing: ISA SA No. 6380; Queue No. AD1-087/AD2-202 and Cancellation of IISA SA No. 5142 to be effective 2/25/2022.

Filed Date: 3/28/22.

Accession Number: 20220328-5026.

Comment Date: 5 p.m. ET 4/18/22.

Docket Numbers: ER22-1467-000.

Applicants: PJM Interconnection, L.L.C.

Description: § 205(d) Rate Filing: Amendment to ISA/CSA, Service Agreement Nos. 6157/6158; Queue No. AB2-036 to be effective 8/8/2021.

Filed Date: 3/28/22.

Accession Number: 20220328-5027.

Comment Date: 5 p.m. ET 4/18/22.

Docket Numbers: ER22-1468-000.

Applicants: Louisville Gas and Electric Company.

Description: § 205(d) Rate Filing: Amendment to OMU NITSA to be effective 3/17/2022.

Filed Date: 3/28/22.

Accession Number: 20220328-5030.

Comment Date: 5 p.m. ET 4/18/22.

Docket Numbers: ER22-1469-000.

Applicants: Southwest Power Pool, Inc.

Description: § 205(d) Rate Filing: 3923 Seven Cowboy GIA & 3864 Seven Cowboy IGIA Cancellation to be effective 3/3/2022.

Filed Date: 3/28/22.

Accession Number: 20220328-5058.

Comment Date: 5 p.m. ET 4/18/22.

Docket Numbers: ER22-1470-000.

Applicants: Southwest Power Pool, Inc.

Description: § 205(d) Rate Filing: City Utilities of Springfield, Missouri Revisions to Formula Rate to be effective 6/1/2022.

Filed Date: 3/28/22.

Accession Number: 20220328-5100.

Comment Date: 5 p.m. ET 4/18/22.

Docket Numbers: ER22-1471-000.

Applicants: AEP Energy, Inc.

Description: § 205(d) Rate Filing: 1. MBR Tariff to be effective 3/29/2022.

Filed Date: 3/28/22.

Accession Number: 20220328-5115.

Comment Date: 5 p.m. ET 4/18/22.

Docket Numbers: ER22-1472-000.

Applicants: New York State Electric & Gas Corporation, New York Independent System Operator, Inc.

Description: § 205(d) Rate Filing: New York State Electric & Gas Corporation submits tariff filing per 35.13(a)(2)(iii: 205 LGIA between NYISO and NYSEG for High Bridge SA No. 2657—CEII to be effective 3/15/2022.

Filed Date: 3/28/22.

Accession Number: 20220328-5118.

Comment Date: 5 p.m. ET 4/18/22.

Docket Numbers: ER22-1473-000.

Applicants: PJM Interconnection, L.L.C.

Description: § 205(d) Rate Filing: Amendment to ISA, SA No. 3920; Queue No. Z1-127 to be effective 7/29/2014.

Filed Date: 3/28/22.

Accession Number: 20220328-5124.

Comment Date: 5 p.m. ET 4/18/22.

Docket Numbers: ER22-1474-000.

Applicants: AEP Energy Partners, Inc.

Description: § 205(d) Rate Filing: MBR Tariff, FERC Electric Tariff for Market Based Sales to be effective 3/28/2022.

Filed Date: 3/28/22.

Accession Number: 20220328-5126.

Comment Date: 5 p.m. ET 4/18/22.

Docket Numbers: ER22-1475-000.

Applicants: AEP Retail Energy Partners LLC.

Description: § 205(d) Rate Filing: AEP REP Triennial Review to be effective 3/29/2022.

Filed Date: 3/28/22.

Accession Number: 20220328-5128.

Comment Date: 5 p.m. ET 4/18/22.

Docket Numbers: ER22-1476-000.

Applicants: Apple Blossom Wind, LLC.

Description: § 205(d) Rate Filing: Apple Blossom Wind, LLC Market-Based Rate Tariff to be effective 3/29/2022.

Filed Date: 3/28/22.

Accession Number: 20220328-5139.

Comment Date: 5 p.m. ET 4/18/22.

Docket Numbers: ER22-1477-000.

Applicants: Black Oak Wind, LLC.

Description: § 205(d) Rate Filing: Black Oak Wind Market-Based Rate Tariff to be effective 3/29/2022.

Filed Date: 3/28/22.

Accession Number: 20220328-5143.

Comment Date: 5 p.m. ET 4/18/22.

Docket Numbers: ER22-1478-000.

Applicants: PJM Interconnection, L.L.C.

Description: § 205(d) Rate Filing: First Revised ISA, Service Agreement No. 4303; Queue AC2-092 to be effective 2/24/2022.

Filed Date: 3/28/22.

Accession Number: 20220328-5149.

Comment Date: 5 p.m. ET 4/18/22.

Docket Numbers: ER22-1479-000.

Applicants: Midcontinent Independent System Operator, Inc., Northern Indiana Public Service Company LLC.

Description: § 205(d) Rate Filing: Midcontinent Independent System Operator, Inc. submits tariff filing per 35.13(a)(2)(iii: 2022-03-28_SA 3765 NIPSCO-Dunns Bridge 1st Rev E&P (J1333 J1334 J1335) to be effective 3/3/2022.

Filed Date: 3/28/22.

Accession Number: 20220328-5166.

Comment Date: 5 p.m. ET 4/18/22.

Docket Numbers: ER22-1480-000.

Applicants: Tucson Electric Power Company.

Description: § 205(d) Rate Filing: Depreciation Rate Update to be effective 1/1/2021.

Filed Date: 3/28/22.

Accession Number: 20220328-5177.

Comment Date: 5 p.m. ET 4/18/22.

Docket Numbers: ER22-1481-000.

Applicants: Duke Energy Carolinas, LLC.

Description: Tariff Amendment: DEC-Notice of Cancellation of RS-508 to be effective 5/28/2022.

Filed Date: 3/28/22.

Accession Number: 20220328-5184.

Comment Date: 5 p.m. ET 4/18/22.

Docket Numbers: ER22-1482-000.

Applicants: Blythe Mesa Solar II, LLC.

Description: Baseline eTariff Filing: Application for Market-Based Rate Authority to be effective 3/29/2022.

Filed Date: 3/28/22.

Accession Number: 20220328-5189.

Comment Date: 5 p.m. ET 4/18/22.

Docket Numbers: ER22-1483-000.

Applicants: Saavi Energy Solutions, LLC.

Description: § 205(d) Rate Filing: Normal filing 2022 to be effective 3/29/2022.

Filed Date: 3/28/22.

Accession Number: 20220328-5191.

Comment Date: 5 p.m. ET 4/18/22.

Take notice that the Commission received the following electric securities filings:

Docket Numbers: ES22-32-000.

Applicants: PJM Settlement, Inc.

Description: Application Under Section 204 of the Federal Power Act for Authorization to Issue Securities of PJM Settlement.

Filed Date: 3/25/22.

Accession Number: 20220325-5251.

Comment Date: 5 p.m. ET 4/15/22.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: March 28, 2022.
Debbie-Anne A. Reese,
Deputy Secretary.

[FR Doc. 2022-06892 Filed 3-31-22; 8:45 am]

BILLING CODE 6717-01-P